DEPARTMENT OF TRANSPORTATION

Federal Aviation Administration

14 CFR Part 39

[Docket No. FAA-2011-1060; Directorate Identifier 2011-NM-015-AD; Amendment 39-16945; AD 2012-03-04]

RIN 2120-AA64

Airworthiness Directives; Airbus Airplanes

AGENCY: Federal Aviation Administration (FAA), Department of Transportation (DOT).

ACTION: Final rule.

SUMMARY: We are superseding an existing airworthiness directive (AD) for certain Airbus Model A310 series airplanes. That AD currently requires, for certain airplanes, modifying the wire routing and installing additional protective sleeves. This new AD adds, for certain airplanes, modifying wire routings and installing a modified bracket. This AD was prompted by analyses of the wire routing showing that the route of the fuel electrical circuit in the right-hand wing must be modified in order to ensure better segregation between fuel quantity indication wires and the 115-volt alternating current wires. We are issuing this AD to prevent short circuits leading to arcing, and possible fuel tank explosion.

DATES: This AD becomes effective May 15, 2012.

The Director of the Federal Register approved the incorporation by reference of certain publications listed in this AD as of May 15, 2012.

The Director of the Federal Register approved the incorporation by reference of a certain publication listed in this AD as of February 20, 2008 (73 FR 2795, January 16, 2008).

The Director of the Federal Register approved the incorporation by reference of a certain other publication listed in this AD as of September 3, 2004 (69 FR 45578, July 30, 2004).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on October 11, 2011 (76 FR 62653), and proposed to supersede AD 2008-01-05, Amendment 39-15330 (73 FR 2795, January 16, 2008). That NPRM proposed to correct an unsafe condition for the specified products. The MCAI states:

Within the scope of the Fuel System Safety Program (FSSP), analyses of the wire routing showed that the route 2S of the fuel electrical circuit in the Right Hand (RH) wing must be modified in order to ensure better segregation between fuel quantity indication wires and the 115 Volts Alternating Current (VAC) wires of route 2S.

This condition, if not corrected, could result in short circuits leading to arcing, and possible fuel tank explosion.

To address this unsafe condition, [Direction Générale de l'Aviation Civile] DGAC France issued AD 2002-578(B) [which corresponds to FAA AD 2004-15-16, Amendment 39-13750 (69 FR 45578, July 30, 2004)] to require improvements of the design as specified in Airbus Service Bulletin (SB) A310-28-2148 original issue or Revision 01. EASA AD 2007-0230 [which corresponds to FAA AD 2008-01-05 (73 FR 2795, January 16, 2008)], which superseded DGAC France AD 2002-578(B), required those same actions, plus additional work as defined in Airbus SB A310-28-2148 Revision 02.

Since EASA AD 2007-0230 was issued, an operator reported the possibility of chafing with the new routing of the wire bundle 2S in the RH wing pylon area to the generator wire bundle of engine 2. The modification of this zone was introduced by A310-28-2148 Revision 02 as additional work. Investigation showed that, to avoid the risk of chafing, the affected wiring harnesses must be installed at a higher position to provide sufficient clearance with the newly routed wire bundle 2S conduit.

Airbus published Revision 03 of SB A310-28-2148 to describe these changes, but a new interference has been found and requires updating SB A310-28-2148 to Revision 04 [or 05].

For the reasons described above, this new [EASA] AD retains the requirements of EASA AD 2007-0230, which is superseded, and requires the additional work as specified in Revision 04 [or 05] of Airbus SB A310-28-2148.

Required actions include modifying the wire routings and installing a modified bracket. You may obtain further information by examining the MCAI in the AD docket.

Comments

We gave the public the opportunity to participate in developing this AD. We considered the comments received.

Request To Reference Latest Service Information

FedEx noted that Airbus has issued Mandatory Service Bulletin A310-28-2148, Revision 06, dated August 31, 2011.

We infer that FedEx is requesting that we reference Airbus Mandatory Service Bulletin A310-28-2148, Revision 06, dated August 31, 2011, in this AD. We agree and have reviewed Airbus Mandatory Service Bulletin A310-28-2148, Revision 06, dated August 31, 2011. We have added this reference to paragraphs (g), (i), (j), and (n) of this AD as an optional source of service information for doing the required actions.

Explanation of Additional Changes Made to This AD

We have revised certain paragraph headers throughout this AD. We have also revised the wording in paragraphs (h) and (m) of this AD; this change has not changed the intent of those paragraphs.

Conclusion

We reviewed the available data, including the comment received, and determined that air safety and the public interest require adopting the AD with the changes described previously—and minor editorial changes. We have determined that these minor changes:

• Are consistent with the intent that was proposed in the NPRM (76 FR 62653, October 11, 2011) for correcting the unsafe condition; and

• Do not add any additional burden upon the public than was already proposed in the NPRM (76 FR 62653, October 11, 2011).

Costs of Compliance

We estimate that this AD will affect about 61 products of U.S. registry. The following table provides the estimated costs for U.S. operators to comply with this AD.

Table—Estimated Costs
Action | Work hours | Average labor rate per hour | Parts | Cost per airplane | Number of U.S.- registered airplanes | Fleet cost
Modification (required by AD 2004-15-16, Amendment 39-13750 (69 FR 45578, July 30, 2004)) | 35 | $85 | $4,459 | $7,434 | 68 | $505,512
Modification (required by AD 2008-01-05, Amendment 39-15330 (73 FR 2795, January 16, 2008)) | 22 | 85 | 1,870 | 3,740 | 68 | 254,320
Modification (new action) | 62 | 85 | 2,210 | 7,480 | 61 | 456,280

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

Examining the AD Docket

You may examine the AD docket on the Internet at http://www.regulations.gov; or in person at the Docket Operations office between 9 a.m. and 5 p.m., Monday through Friday, except Federal holidays. The AD docket contains the NPRM (76 FR 62653, October 11, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15330 (73 FR 2795, January 16, 2008) and adding the following new AD:

2012-03-04 Airbus: Amendment 39-16945. Docket No. FAA-2011-1060; Directorate Identifier 2011-NM-015-AD.

(a) Effective Date

This airworthiness directive (AD) becomes effective May 15, 2012.

(b) Affected ADs

This AD supersedes AD 2008-01-05, Amendment 39-15330 (73 FR 2795, January 16, 2008).

(c) Applicability

This AD applies to Airbus Model A310-203, -204, -221, -222, -304, -322, -324, and -325 airplanes; certificated in any category; all serial numbers.

(d) Subject

Air Transport Association (ATA) of America Code 28: Fuel.

(e) Reason

This AD was prompted by analyses of the wire routing showing that the route of the fuel electrical circuit in the right-hand wing must be modified in order to ensure better segregation between fuel quantity indication wires and the 115-volt alternating current wires. We are issuing this AD to prevent short circuits leading to arcing, and possible fuel tank explosion.

(f) Compliance

You are responsible for having the actions required by this AD performed within the compliance times specified, unless the actions have already been done.

(g) Retained Modification With New Service Information

This paragraph restates the modification required by paragraph (a) of AD 2004-15-16, Amendment 39-13750 (69 FR 45578, July 30, 2004), with revised service information. For all airplanes except airplanes on which Airbus Service Bulletin A310-28-2148, Revision 02, dated March 9, 2007, has been done (Airbus Modifications 12427 and 12435): Within 4,000 flight hours after September 3, 2004 (the effective date of AD 2004-15-16), modify the routing of wires in the right hand (RH) wing by installing cable sleeves, per the Accomplishment Instructions of Airbus Service Bulletin A310-28-2148, Revision 01, dated October 29, 2002; Airbus Service Bulletin A310-28-2148, Revision 02, dated March 9, 2007; Airbus Mandatory Service Bulletin A310-28-2148, Revision 05, dated August 3, 2010; or Airbus Mandatory Service Bulletin A310-28-2148, Revision 06, dated August 31, 2011. As of February 20, 2008 (the effective date of AD 2008-01-05, Amendment 39-15330 (73 FR 2795, January 16, 2008)), Airbus Service Bulletin A310-28-2148, Revision 02, dated March 9, 2007; Airbus Mandatory Service Bulletin A310-28-2148, Revision 05, dated August 3, 2010; or Airbus Mandatory Service Bulletin A310-28-2148, Revision 06, dated August 31, 2011; must be used. As of the effective date of this AD, Airbus Mandatory Service Bulletin A310-28-2148, Revision 05, dated August 3, 2010; or Airbus Mandatory Service Bulletin A310-28-2148, Revision 06, dated August 31, 2011; must be used.

(h) Credit for Previous Actions

This paragraph provides credit for the modification of the routing of wires required by paragraph (g) of this AD, if the modification was performed before September 3, 2004 (the effective date of AD 2004-15-16, Amendment 39-13750 (69 FR 45578, July 30, 2004)), using Airbus Service Bulletin A310-28-2148, dated January 23, 2002.

(i) Retained Modification With New Service Information

This paragraph restates the modification required by paragraph (h) of AD 2008-01-05, Amendment 39-15330 (73 FR 2795, January 16, 2008), with revised service information. For airplanes on which the actions specified in Airbus Service Bulletin A310-28-2148, dated January 23, 2002; or Airbus Service Bulletin A310-28-2148, Revision 01, dated October 29, 2002; have been done before February 20, 2008 (the effective date of AD 2008-01-05), except for airplanes on which Airbus Service Bulletin A310-28-2148, Revision 02, dated March 9, 2007, has been done (Airbus Modifications 12427 and 12435): Within 6,000 flight hours or 30 months after February 20, 2008, whichever occurs first, perform further modification by installing additional protection sleeves in the outer wing area near the cadensicon sensor and segregating wire route 2S in the RH pylon area, in accordance with the Accomplishment Instructions of Airbus Service Bulletin A310-28-2148, Revision 02, dated March 9, 2007; Airbus Mandatory Service Bulletin A310-28-2148, Revision 05, dated August 3, 2010; or Airbus Mandatory Service Bulletin A310-28-2148, Revision 06, dated August 31, 2011. As of the effective date of this AD, Airbus Mandatory Service Bulletin A310-28-2148, Revision 05, dated August 3, 2010; or Airbus Mandatory Service Bulletin A310-28-2148, Revision 06, dated August 31, 2011; must be used.

(j) New Modification/Installation for Certain Airplanes

For airplanes on which the actions specified in Airbus Service Bulletin A310-28-2148, Revision 02, dated March 9, 2007, have been accomplished, and do not have production modification 07633; and on which Airbus Service Bulletin A310-36-2015 has not been done: Within 6,000 flight hours or 30 months after the effective date of this AD, whichever occurs first, modify the wire routings, in accordance with the Accomplishment Instructions of Airbus Mandatory Service Bulletin A310-28-2148, Revision 05, dated August 3, 2010; or Airbus Mandatory Service Bulletin A310-28-2148, Revision 06, dated August 31, 2011.

(k) New Modification/Installation for Certain Other Airplanes

For airplanes on which the actions specified in Airbus Service Bulletin A310-28-2148, Revision 02, dated March 9, 2007, have been accomplished, and have production modification 07633; or on which Airbus Service Bulletin A310-36-2015 has been done: Within 1,000 flight hours after the effective date of this AD, install a modified bracket, in accordance with paragraph 3.B.(7), “Additional Work 2,” of the Accomplishment Instructions of Airbus Mandatory Service Bulletin A310-28-2148, Revision 05, dated August 3, 2010; or Airbus Mandatory Service Bulletin A310-28-2148, Revision 06, dated August 31, 2011.

(l) No Additional Modification/Installation for Certain Airplanes

For airplanes on which the actions specified in Airbus Service Bulletin A310-28-2148, Revision 03, dated June 2, 2009, have been accomplished; and have modification 07633 done in production; or on which the actions specified in Airbus Service Bulletin A310-36-2015 have been done; no further action is required by this AD.

(m) Credit for Previous Actions

This paragraph provides credit for modifications required by paragraphs (g), (i), (j), and (k) of this AD, if the modifications were performed before the effective date of this AD using Airbus Mandatory Service Bulletin A310-28-2148, Revision 04, dated April 14, 2010.

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, Washington 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously in accordance with AD 2008-01-05, Amendment 39-15330 (73 FR 2795, January 16, 2008), are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(o) Related Information

Refer to MCAI European Aviation Safety Agency (EASA) Airworthiness Directive 2011-0005, dated January 17, 2011, and the following service information for related information.

(1) Airbus Service Bulletin A310-28-2148, Revision 01, dated October 29, 2002.

(2) Airbus Service Bulletin A310-28-2148, Revision 02, dated March 9, 2007.

(3) Airbus Mandatory Service Bulletin A310-28-2148, Revision 05, dated August 3, 2010.

(4) Airbus Mandatory Service Bulletin A310-28-2148, Revision 06, dated August 31, 2011.

(p) Material Incorporated by Reference

(1) The Director of the Federal Register approved the incorporation by reference (IBR) of the following service information under 5 U.S.C. 552(a) and 1 CFR part 51.

(2) You must use the following service information to do the actions required by this AD, unless the AD specifies otherwise.

(3) The following service information was approved for IBR on May 15, 2012.

(i) Airbus Mandatory Service Bulletin A310-28-2148, Revision 05, dated August 3, 2010.

(ii) Airbus Mandatory Service Bulletin A310-28-2148, Revision 06, dated August 31, 2011.

(4) The following service information was approved for IBR on February 20, 2008 (73 FR 2795, January 16, 2008).

(i) Airbus Service Bulletin A310-28-2148, Revision 02, dated March 9, 2007.

(5) The following service information was approved for IBR on September 3, 2004 (69 FR 45578, July 30, 2004).

(i) Airbus Service Bulletin A310-28-2148, Revision 01, dated October 29, 2002.

(6) For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.

(7) You may review copies of the service information at the FAA, Transport Airplane Directorate, 1601 Lind Avenue SW., Renton, Washington. For information on the availability of this material at the FAA, call 425-227-1221.

(8) You may also review copies of the service information that is incorporated by reference at the National Archives and Records Administration (NARA). For information on the availability of this material at an NARA facility, call 202-741-6030, or go to http://www.archives.gov/federal_register/code_of_federal_regulations/ibr_locations.html.

Issued in Renton, Washington, on January 26, 2012.
Kalene C. Yanamura,
Acting Manager, Transport Airplane Directorate, Aircraft Certification Service.

[FR Doc. 2012-8220 Filed 4-9-12; 8:45 am]

BILLING CODE 4910-13-P